DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: February 15, 2018, 10:00 a.m.

PLACE: Room 2C, 888 First Street NE, Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ sing the eLibrary link, or may be examined in the Commission's Public Reference Room.

1040th—Meeting
Item No. | Docket No. | Company
Administrative
A-1 | AD18-1-000 | Agency Administrative Matters.
A-2 | AD18-2-000 | Customer Matters, Reliability, Security and Market Operations.
Electric
E-1 | RM16-23-000, AD16-20-000 | Electric Storage Participation in Markets Operated by Regional Transmission Organizations and Independent System Operators. Electric Storage Participation in Regions with Organized Wholesale Electric Markets.
E-2 | RM16-6-000 | Essential Reliability Services and the Evolving Bulk-Power System-Primary Frequency Response.
E-3 | ER17-2536-000, ER17-2536-001 | Pacific Gas and Electric Company.
E-4 | EL16-71-000, ER17-179-000 | Monongahela Power Company; Potomac Edison Company; West Penn Power Company; AEP Indiana Michigan Transmission Company, Inc.; AEP Kentucky Transmission Company, Inc.; AEP Ohio Transmission Company, Inc.; AEP West Virginia Transmission Company, Inc.; Appalachian Power Company; Indiana Michigan Power Company; Kentucky Power Company; Kingsport Power Company; Ohio Power Company; Wheeling Power Company; Commonwealth Edison Company; Commonwealth Edison Company of Indiana, Inc.; Dayton Power and Light Company; Virginia Electric and Power Company; Public Service Electric and Gas Company; PECO Energy Company; PPL Electric Utilities Corporation; Baltimore Gas and Electric Company; Jersey Central Power & Light Company; Metropolitan Edison Company; Pennsylvania Electric Company; Potomac Electric Power Company; Atlantic City Electric Company; Delmarva Power & Light Company; UGI Utilities Inc.; Allegheny Electric Cooperative, Inc.; CED Rock Springs, LLC; Old Dominion Electric Cooperative; Rockland Electric Company; Duquesne Light Company; Neptune Regional Transmission System, LLC; Trans-Allegheny Interstate Line Company; Linden VFT, LLC; American Transmission Systems, Incorporated; City of Cleveland, Department of Public Utilities, Division of Cleveland Public Power; Duke Energy Ohio, Inc.; Duke Energy Kentucky, Inc.; City of Hamilton, Ohio; Hudson Transmission Partners, LLC; East Kentucky Power Cooperative, Inc.; City of Rochelle; ITC Interconnection LLC; PJM Interconnection, L.L.C.
E-5 | ER17-706-001 | GridLiance West Transco LLC.
E-6 | ER16-262-001 | Uniper Global Commodities North America LLC.
E-7 | ER16-2186-000 | Deseret Generation & Transmission Co-operative, Inc.
E-8 | ER18-465-000 | Public Service Company of New Hampshire.
E-9 | ER18-164-000 | Public Service Company of Colorado.
E-10 | ER17-156-002 | Midcontinent Independent System Operator, Inc.
E-11 | ER13-102-009, ER13-102-010, ER13-102-011 | New York Independent System Operator, Inc.
E-12 | ER15-2059-002, ER13-102-008, (Not Consolidated) | New York Independent System Operator, Inc.
E-13 | EC18-21-000 | Michigan Electric Transmission Company, LLC.
E-14 | EL17-83-000 | Piedmont Municipal Power Agency v. Duke Energy Carolinas, LLC.
E-15 | EL18-50-000, QF17-581-001, QF17-582-001, QF17-583-002, QF17-584-001 | Franklin Energy Storage One, LLC; Franklin Energy Storage Two, LLC; Franklin Energy Storage Three, LLC; Franklin Energy Storage Four, LLC.
Miscellaneous
M-1 | RM18-7-000 | Withdrawal of Pleadings.
Gas
G-1 | OR18-2-000 | Permian Express Terminal LLC and Permian Express Partners LLC.
G-2 | RP18-354-000 | Chesapeake Energy Marketing, L.L.C. and Territory Resources LLC.
G-3 | RP15-1022-010, RP16-581-004, (Consolidated), | Alliance Pipeline L.P.
| RP16-292-004, RP16-240-003, RP16-986-001, RP16-1045-001, (Not Consolidated)
Hydro
H-1 | P-5-103 | Confederated Salish and Kootenai Tribes Energy Keepers, Incorporated.
H-2 | P-10808-058 | Boyce Hydro Power, LLC.
H-3 | P-10808-056 | Boyce Hydro Power, LLC.
H-4 | CD18-1-001 | Carson Tahoe Energy, LLC.
Certificates
C-1 | CP08-454-000 | LA Storage, LLC.
C-2 | CP17-257-000 | WBI Energy Transmission, Inc.
C-3 | CP17-468-000 | Texas Eastern Transmission, LP.
C-4 | CP17-46-000 | Southern Natural Gas Company, L.L.C.
C-5 | CP15-499-000, CP15-499-001, CP17-26-000 | Texas Eastern Transmission, LP; Pomelo Connector, LLC.

Dated: February 8, 2018.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-03013 Filed 2-9-18; 11:15 am]

BILLING CODE 6717-01-P